DEPARTMENT OF TRANSPORTATION

Federal Railroad Administration

[Docket No. FRA-2023-0002-N-48]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On December 26, 2023, FRA published a notice providing a 60-day period for public comment on the ICR. FRA received no comments in response to the notice.

DATES: Interested persons are invited to submit comments on or before April 26, 2024.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285; or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On December 26, 2023, FRA published a 60-day notice in the Federal Register soliciting public comment on the ICR for which it is now seeking OMB approval. See 88 FR 89017. FRA has received no comments related to the proposed collection of information.

Before OMB decides whether to approve this proposed collection of information, it must provide 30 days' notice for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Qualification and Certification of Locomotive Engineers.

OMB Control Number: 2130-0533.

Abstract: Section 4 of the Rail Safety Improvement Act of 1988 (RSIA), Public Law 100-342, 102 Stat. 624 (June 22, 1988), later amended and re-codified by Public Law 103-272, 108 Stat. 874 (July 5, 1994), required FRA to issue regulations to establish any necessary program for certifying or licensing locomotive engineers. The collection of information is used by FRA to ensure that railroads employ and properly train qualified individuals as locomotive engineers and designated supervisors of locomotive engineers (DSLEs).

The collection of information is used by FRA to verify that railroads have established required certification programs for locomotive engineers and that these programs fully conform to the standards specified in the regulation.

On December 26, 2023, FRA published a 60-day Federal Register notice that reflected 23,969 total burden hours and 224,652 responses. See 88 FR 89017. Upon further evaluation, FRA has determined that 49 CFR 240.119(e)(3)(iii) does not identify any additional paperwork burden and only specifies the potential length of ineligibility when a person has been had their certification revoked. Additionally, FRA has removed the following sections as they were being counted twice: § 240.111, because the written responses for this requirement are already included under § 240.219; § 240.119(e)(3)(ii), because these notifications are already included under § 240.119(c); § 240.121, because medical examiner reports are already included under section § 240.207 (medical certificates); § 240.101, because material modifications are already included under § 240.103(h); and § 240.205, because data to an EAP counselor is already included under § 240.115 (prior safety data criteria).

For additional clarity, FRA is including the updated burden table for publication with this 30-day Federal Register notice.

Type of Request: Extension without change (with changes in estimates) of a currently approved collection.

Affected Public: Businesses (railroads).

Form(s): N/A.

Respondent Universe: 784 railroads.

Frequency of Submission: On occasion.

Total Estimated Annual Responses: 224,023.

Total Estimated Annual Burden: 23,851 hours.

Total Estimated Annual Burden Hour Dollar Cost Equivalent: $2,362,843.

CFR section | Respondent universe | Total annual responses | Average time per response | Total annual burden hours | Wage rate | Total cost equivalent U.S.D
|  | (A) | (B) | (C = A * B) |  | (D = C * wage rates)
240.9—Waivers | 784 railroads | 2 waiver petitions | 1 hour | 2.00 | $85.93 | $171.86
240.101—Written certification program: new railroads | 5 new railroads | 5 written programs | 1 hour | 5.00 | 85.93 | 429.65
240.103—Approval of design of individual railroad programs by FRA | 5 new railroads | 5 program submissions | 1 hour | 5.00 | 85.93 | 429.65
—(b)(1)—RR provides a copy of a certification program submission or resubmission to the president of the labor organization representing employees simultaneously with filing with FRA | 62 railroads | 62 copies | 5 minutes | 5.17 | 85.93 | 444.26
—(b)(2)—RR affirmative statement that it has served certification program copy to the president of the labor organization representing employees' labor unions | 62 railroads | 62 copies | 5 minutes | 5.17 | 85.93 | 444.26
—(c)—RR employee comment on submission, resubmission or material modification of RR certification program | 62 railroads | 62 comments | 8 hours | 496.00 | 85.93 | 42,621.28
—(h)—RR material modifications to program after initial FRA approval (formerly under (e)) | 784 railroads | 10 modified programs | 10 minutes | 1.67 | 85.93 | 143.50
240.105(c)—Written reports/determinations of DSLE performance skills | 784 railroads | 10 written reports | 30 minutes | 5.00 | 123.41 | 617.05
240.109—Prior safety conduct data | 17,667 candidates | 25 responses | 5 minutes | 2.08 | 63.07 | 131.19
240.111—Driver's license data requests from chief of driver licensing agency of any jurisdiction, including foreign countries | 17,667 candidates | 17,667 requests | 10 minutes | 2,944.50 | 85.93 | 253,020.89
—NDR match—notifications and requests for data | 784 railroads | 177 notices, +177 requests | 5 + 5 minutes | 29.50 | 85.93 63.07 | 2,197.75
240.111(g)—Notice to RR of absence of license | 53,000 candidates | 4 letters | 5 minutes | 0.33 | 63.07 | 20.81
240.111(h)—Duty to furnish data within 48 hours of being convicted or final State action on prior safety conduct as a motor vehicle driver's license operator | 784 railroads | 100 communications | 5 minutes | 8.33 | 63.07 | 525.37
240.113—Notice to RR furnishing data on prior safety conduct—different RR | 17,667 candidates | 353 requests, +353 responses | 5 + 5 minutes | 58.84 | 85.93 63.07 | 4,383.58
240.115 (c) and (d)—RR temporary certification or recertification of locomotive engineer for 60 days after having requested the motor vehicle information specified in paragraph (h) of this section | 784 railroads | 25 recertifications | 5 minutes | 2.08 | 85.93 | 178.73
(i)(2)—RR drug and alcohol counselor's request of employee's record of prior counseling or treatment | 17,667 candidates | 400 requests | 5 minutes | 33.33 | 63.07 | 2,102.12
(i)(3)—Conditional certification based on recommendation by DAC of employee aftercare and/or follow-up testing for alcohol/drugs when person evaluated as not currently affected by an active substance abuse disorder | 17,667 candidates | 100 conditional certifications /DAC recommendations | 1 hour | 100.00 | 63.07 | 6,307.00
(i)(4)—RR employee is evaluated by DAC as having an active substance abuse disorder | 17,667 candidates | 100 DAC evaluations | 1 hour | 100.00 | 63.07 | 6,307.00
240.117(i)(4)—Early grant or reinstatement of certificate that has been denied/revoked; records | 53,000 locomotive engineers | 400 trained/retrained records | 5 minutes | 33.33 | 63.07 | 2,102.12
240.119(c)—Written records indicating dates that the engineer stopped performing or returned to certification service + compliance/observation test | 784 railroads | 400 records | 5 minutes | 33.33 | 63.07 | 2,102.12
240.119(d)(3)—Self-referral to EAP re: active substance abuse disorder | 53,000 locomotive engineers | 150 self-referrals | 5 minutes | 12.50 | 63.07 | 788.38
240.119(e)(3)(i)—RR determination that prior alcohol/drug conduct requires a written determination that a period of ineligibility applies | The burden for this requirement is covered under 240.119(c).
240.121(e)—Criteria—vision/hearing acuity data—new railroads | 5 new railroads | 5 copies | 5 minutes | 0.42 | 85.93 | 36.09
—(f)—Criteria—vision/hearing acuity data—not meeting standards—notice by employee | 784 railroads | 10 notifications | 5 minutes | 0.83 | 63.07 | 52.56
240.129(b)—RR records engineer's service if stopped performing service before both an operational monitoring observation and an unannounced compliance test are completed in a calendar year | 53,000 locomotive engineers | 1,000 records | 5 minutes | 83.33 | 85.93 | 7,160.55
240.201/221—List of DSLEs | 784 railroads | 784 lists | 5 minutes | 65.33 | 85.93 | 5,613.81
—List of Qualified Locomotive Engineers | 784 railroads | 784 updated lists | 5 minutes | 65.33 | 85.93 | 5,613.81
240.201/223/301—Locomotive engineer's certificate | 53,000 candidates | 17,667 certificates | 5 minutes | 1,472.25 | 85.93 | 126,510.44
240.207—Medical certificate showing hearing/vision standards are met: | 53,000 candidates | 17,667 certificates | 30 minutes | 8,833.50 | 123.41 | 1,090,142.24
—Written determinations allowing person to meet lower threshold or person no longer needs to use corrective device such as glasses or hearing aids | 784 railroads | 30 determinations | 5 minutes | 2.50 | 123.41 | 308.53
240.209/213—Written documentation of knowledge tests of RR rules and practices | 53,000 candidates | 17,667 testing records retained | 1 minute | 294.45 | 85.93 | 25,302.09
240.211/213—Written documentation of performance skills test | 53,000 candidates | 17,667 testing records retained | 1 minute | 294.45 | 85.93 | 25,302.09
240.215—Retaining info. supporting determination | 784 railroads | 17,667 records | 5 minutes | 1,472.25 | 85.93 | 126,510.44
240.219(a)—RR notification letter to employee of certification denial + employee written rebuttal | 17,667 candidates | 90 letters and responses | 30 minutes | 45.00 | 85.93 | 3,866.85
—RR denial decision | 784 railroads | 45 documents/records | 2 minutes | 1.50 | 85.93 | 128.90
240.229(3)(ii)—Joint operations—notice—not qualified | 321 railroads | 184 employee calls | 5 minutes | 15.33 | 63.07 | 966.86
240.301(b)—Temporary replacement certificates valid for no more than 30 days | 784 railroads | 600 replacement certificates | 30 minutes | 300.00 | 85.93 | 25,779.00
240.303—Annual operational monitoring observation | 53,000 candidates | 53,000 testing records retained | 1 minute | 883.33 | 85.93 | 75,904.83
240.303—Annual unannounced operating rules compliance test | 53,000 candidates | 53,000 testing records retained | 1 minute | 883.33 | 85.93 | 75,904.83
240.305(c)—Engineer's notice of non-qualification to RR | 53,000 engineers or candidates | 100 notifications | 5 minutes | 8.33 | 63.07 | 525.37
—(d)—Relaying certification denial or revocation status to other certifying railroad | 1,060 engineers | 2 letters | 15 minutes | 0.50 | 63.07 | 31.54
240.307(a-b)—Revocation of certification—notice to engineer of disqualification | 784 railroads | 550 + 550 letters | 1 + 1 hour | 1,100.0 | 85.93 63.07 | 81,950.00
—(b)(4)—RR provision to employee of copy of written information and list of witnesses that it will present at hearing | 784 railroads | 690 copies/list | 5 minutes | 57.50 | 85.93 | 4,940.98
—(b)(5)—RR determination on hearing record whether person no longer meets certification requirements of this part | 784 railroads | 690 hearing determinations | 1 hour | 690.00 | 85.93 | 59,291.70
—(b)(7)—RR creates/retains hearing records | 784 railroads | 690 hearings/records | 4 hours | 2,760.00 | 85.93 | 237,166.80
—(c)(11)(i)(ii)—RR written decision after close of hearing containing findings of fact and whether a revocable event occurred | 784 railroads | 690 written decisions | 30 minutes | 345.00 | 85.93 | 29,645.85
—(c)(11)(iii)—RR service of written decision on employee and employee's representative | 784 railroads | 690 copies | 5 minutes | 57.50 | 85.93 | 4,940.98
—(f)—Waiver of right to hearing under this section | 784 railroads | 750 written waivers | 5 minutes | 62.50 | 63.07 | 3,941.88
240.307(i)-(j)—RR decision not to revoke certification | 784 railroads | 50 records of decision | 10 minutes | 8.33 | 85.93 | 715.80
240.309-Railroad oversight responsibilities—annual review | 55 railroads | 55 reviews | 3 hours | 165.00 | 85.93 | 14,178.45
Total | 784 railroads | 224,023 responses |  | 23,851 | 0.00 | 2,362,843

FRA informs all interested parties that it may not conduct or sponsor, and a respondent is not required to respond to, a collection of information that does not display a currently valid OMB control number.

Authority: 44 U.S.C. 3501-3520.

Christopher S. Van Nostrand,
Acting Deputy Chief Counsel.

[FR Doc. 2024-06512 Filed 3-26-24; 8:45 am]

BILLING CODE 4910-06-P